DEPARTMENT OF HEALTH AND HUMAN SERVICES

Centers for Medicare & Medicaid Services

[Document Identifier: CMS-10847]

Agency Information Collection Activities: Submission for OMB Review; Comment Request

Correction

In notice document 2023-14176 beginning on page 42722 in the issue of Monday, July 3, 2023, make the following correction:

On page 42722, in the third column, in the third line of the DATES section, “August 2, 2023” should read “July 31, 2023”.

[FR Doc. C1-2023-14176 Filed 7-13-23; 8:45 am]

BILLING CODE 0099-10-D